POSTAL REGULATORY COMMISSION

39 CFR Part 3055

[Docket No. RM2022-7; Order No. 6439]

RIN 3211-AA32

Reporting of Service Performance

AGENCY: Postal Regulatory Commission.

ACTION: Final rule.

SUMMARY: This Commission adopts rules which revise the Postal Service's service performance reporting requirements and includes additions required by recent postal legislation.

DATES: This rule is effective March 20, 2023.

ADDRESSES: For additional information, Order No. 6439 can be accessed electronically through the Commission's website at https://www.prc.gov.

FOR FURTHER INFORMATION CONTACT: David A. Trissell, General Counsel, at 202-789-6820.

SUPPLEMENTARY INFORMATION:

Table of Contents

I. Relevant Statutory Requirements

II. Background

III. Basis and Purpose of Final Rules

I. Relevant Statutory Requirements

Section 3652(e)(1) of title 39 of the United States Code requires the Commission to prescribe the content and form of the public reports that the Postal Service files with the Commission. 39 U.S.C. 3652(e)(1). In doing so, the Commission must attempt to provide the public with timely information that is adequate to allow it to assess the lawfulness of Postal Service rates, should attempt to avoid unnecessary or unwarranted Postal Service effort and expense, and must endeavor to protect the confidentiality of commercially sensitive information. See id. The Commission may initiate proceedings to improve the quality, accuracy, or completeness of Postal Service reporting whenever it determines that the service performance data have become significantly inadequate, could be significantly improved, or otherwise require revision as necessitated by the public interest. 39 U.S.C. 3652(e)(2).

Additionally, section 3692 directs the Postal Service to develop and maintain a publicly available online “dashboard” that provides weekly service performance data for Market Dominant products and mandates that the Commission provide reporting requirements for this Postal Service dashboard as well as “recommendations for any modifications to the Postal Service's measurement systems necessary to measure and publish the performance information” located on the dashboard. 39 U.S.C. 3692(b)(2), (c). The Postal Service is also authorized to provide certain nonpostal services to the public and other Governmental agencies and consequently required to periodically report the quality of service for these nonpostal services. See 39 U.S.C. 3703-3705.

II. Background

Pursuant to 39 U.S.C. 503, 3652, 3653, 3692 and 3705, the Commission initiated Docket No. RM2022-7 to update the service performance reporting requirements codified in 39 CFR part 3055 and make the aforementioned additions for dashboard and nonpostal product reporting. On April 26, 2022, the Commission issued Order No. 6160, proposing several modifications to the reporting requirements, providing an opportunity for interested persons to comment, and appointing a Public Representative.¹ Included among these suggested modifications were proposals to require the Postal Service to report average actual days to delivery and point impact data, information regarding the performance for each national operating plan target, and data about mail excluded from measurement. Order No. 6160 at 5-6. The Commission also solicited comments on how best to effectuate the statutes requiring the Postal Service to report on nonpostal products and implement a performance dashboard. Id. at 6-8.

¹ Advance Notice of Proposed Rulemaking to Revise Periodic Reporting of Service Performance, April 26, 2022 (Order No. 6160).

The Commission received a wide range of comments in response to Order No. 6160, both discussing the suggested revisions and proposing additional amendments to the reporting requirements. In response, on September 21, 2022, the Commission issued Order No. 6275, revising the previously-proposed reporting requirements, presenting the requirements as draft regulations, and providing another opportunity for interested persons to comment.² Again, the Commission received a variety of comments in response.

² Notice of Proposed Rulemaking to Revise Periodic Reporting of Service Performance, September 21, 2022 (Order No. 6275).

III. Basis and Purpose of Final Rules

After reviewing the commenters' suggestions and analysis, the Commission issues the following revisions to the rules proposed in Order No. 6275. Most rules have not been changed substantively; those that have are addressed below.

First, proposed § 3055.2(m)—which relates to required annual reporting on the Postal Service's Site-Specific Operating Plan (SSOP)—is revised to state that the Postal Service must provide a description of each SSOP, including operation completion time performance for each SSOP measurement category.

Second, proposed § 3055.21—which specifies the annual service performance reporting requirements for the Postal Service—is revised so that proposed § 3055.21(b) specifies that the Postal Service need not identify point impact data for USPS Marketing Mail Every Door Direct Mail or USPS Marketing Mail Destination Delivery Unit Entry Saturation Flats.

Third, proposed § 3055.25—which describes the reporting requirements for nonpostal services—is revised to specify that the Postal Service provide the measure of the quality of service for nonpostal service products annually. Additionally, paragraph (b) is added to specify that the Postal Service may report service performance in a qualitative manner where the quality of nonpostal service itself cannot be measured using on-time service performance. Paragraph (c) is also added to specify that quality of service performance for interagency agreements shall be reported for the program as a whole. Paragraph 3055.25(d) is added to set an effective date for nonpostal services reporting as the beginning of FY 2024.

Fourth, proposed § 3055.30—which describes the Postal Service's periodic service performance reporting obligations—is revised to reflect the fact that the Postal Service is not required to report on a quarterly basis for nonpostal services. As previously-proposed, the existing text is revised to indicate that reporting is not required where exempted by the Commission.

Fifth, proposed § 3055.31—which describes the contents of the Postal Service's Quarterly Report on service performance—is revised so that paragraph (g) states that the Postal Service must provide a description of each SSOP, including operation completion time performance for each SSOP measurement category.

Sixth, the proposed addition of § 3055.70 described in Order No. 6275—which required quarterly reporting for nonpostal services—is withdrawn.

Seventh, proposed § 3055.102—which details the specific requirements for the Postal Service's Public Performance Dashboard—is revised to indicate that the Postal Service is not required to report ZIP Code-level data. Proposed § 3055.102 is also revised to indicate that a query initiated by a user will provide District-level (rather than ZIP Code-level) results. Proposed § 3055.102(d) is revised to indicate that National scores need only date back to FY 2021, and Area and District scores need only date back to FY 2022. Proposed § 3055.102(f), (g), and (i) are revised to specify that processing scores are required for identifiable Political Mail, identifiable Election Mail, and identifiable Nonprofit Mail. Paragraph (j) is also added to require the Postal Service to distinguish non-political NPMM from Political Mail and Election Mail that is sent via NPMM. Paragraph (k) is added to specify that the point impact data for the top ten root causes of on-time service performance failures is required at the Postal Administrative Area and National levels, but not for Nonprofit Mail. Paragraph (o) is added to require the Postal Service to include with the Dashboard an explanation of the underlying methodology and data. Paragraph (p) is added to provide reporting deadlines for certain data on the Dashboard.

Finally, proposed § 3055.103—which describes the format for the data in the Postal Service's Public Performance Dashboard—is revised to specify that the Postal Service shall provide the results of user-initiated queries on the Public Performance Dashboard in a machine-readable format.

List of Subjects in 39 CFR Part 3055

Administrative practice and procedure, Reporting and recordkeeping requirements.

For the reasons stated in the preamble, the Commission amends 39 CFR part 3055 as follows:

PART 3055—SERVICE PERFORMANCE AND CUSTOMER SATISFACTION REPORTING

1. The authority citation for part 3055 is revised to read as follows:

Authority: 39 U.S.C. 503; 3652; 3653; 3692(b) and (c); 3705.

Subpart A—Annual Reporting of Service Performance Achievements

2. Revise § 3055.1 to read as follows:

§ 3055.1 Annual Reporting of service performance achievements.

For each Market Dominant product specified in the Mail Classification Schedule in part 3040, appendix A to subpart A of part 3040 of this chapter (and for each competitive nonpostal service product specified in the Mail Classification Schedule in part 3040, appendix B to subpart A of part 3040 of this chapter), the Postal Service shall file a report as part of the section 3652 report addressing service performance achievements for the preceding fiscal year.

3. Amend § 3055.2 by revising paragraphs (a) and (j) and by adding paragraphs (l) through (n) to read as follows:

§ 3055.2 Contents of the annual report of service performance achievements.

(a) The items in paragraphs (b) through (n) of this section shall be included in the annual report of service performance achievements.

* * * * *

(j) Documentation showing how data reported at a given level of aggregation were derived from data reported at greater levels of disaggregation. Such documentation shall be in electronic format with all data links preserved. It shall show all formulas used, including volumes and other weighting factors. Any graphical representation of data provided shall also be accompanied by the underlying data presented in spreadsheet form.

* * * * *

(l) For each Market Dominant product, the average time in which the product was delivered, measured by actual delivery days, during the previous fiscal year, provided at the District, Postal Administrative Area, and National levels. “Actual delivery days” shall include all days in which Market Dominant products are eligible for delivery, excluding Sundays and holidays. The report shall include the following information on dispersion around the average:

(1) The percent of mailpieces delivered within +1 day of the applicable service standard;

(2) The percent of mailpieces delivered within +2 days of the applicable service standard; and

(3) The percent of mailpieces delivered within +3 days of the applicable service standard.

(m) A description of each Site-Specific Operating Plan, including operation completion time performance (as a percentage rounded to one decimal place) for each Site-Specific Operating Plan measurement category during the previous fiscal year. Such information shall be at the National level and disaggregated by Division and Region.

(n) A description of the total mail volumes measured and excluded from measurement. Such description shall include:

(1) For each class of Market Dominant products (except Special Services), a report of the reasons that mailpieces were excluded from measurement during the previous fiscal year. The report shall include:

(i) The exclusion reason;

(ii) The exclusion description;

(iii) The number of mailpieces excluded from measurement, which is the sum of all mailpieces excluded from measurement for the individual exclusion reason; and

(iv) The exclusion reason as a percent of total mailpieces excluded from measurement, which is the number of mailpieces excluded from measurement (i.e., provided in paragraph (n)(1)(iii) of this section) divided by the sum of all mailpieces excluded from measurement across all exclusion reason categories (i.e., the sum of all values provided in paragraph (n)(1)(iii) of this section).

(2) The report described in paragraph (n)(1) of this section shall follow the format as shown below:

Table 1 to Paragraph (n)(2)—Exclusion Reasons Report for Fiscal Year
Exclusion reason | Exclusion description | Number of mailpieces excluded from measurement | Exclusion reason as a percent of total exclusions

(3) For each class of Market Dominant products and for each Market Dominant product (except Special Services), a description of the mail volumes measured and un-measured during the previous fiscal year. The description shall explain in detail any notations regarding the Postal Service's inability to collect any data. Corresponding data shall also be provided for the same period last year (SPLY).

(4) The report described in paragraph (n)(3) of this section shall follow the format as shown below:

Table 2 to Paragraph (n)(4)—Total Mail Measured/Unmeasured Volumes Report for Fiscal Year
Class/product | ‸‸: Prior FY | ‸‸: SPLY | ‸‸: Prior FY | ‸‸: SPLY | ‸‸: Prior FY | ‸‸: SPLY
Total Number of Pieces (RPW-ODIS)
Total Number of Pieces in Measurement
Total Number of Pieces Eligible for Full-Service IMb
Total Number of Full-Service IMb Pieces Included in Measurement
Total Number of Full-Service IMb Pieces Excluded from Measurement
Total Number of Pieces Not in Measurement
% of Pieces in Measurement Compared to Total Pieces
% of Pieces Not in Measurement Compared to Total Pieces
% of Full-Service IMb Pieces in Measurement Compared to Total IMb Full-Service Pieces
% of Full-Service IMb Pieces Not in Measurement Compared to Total IMb Full-Service Pieces

(5) Descriptions of the current methodologies used to verify the accuracy, reliability, and representativeness of service performance data for each service performance measurement system.

§ 3055.7 [Removed and Reserved].

4. Remove and reserve § 3055.7.

5. Revise § 3055.20 to read as follows:

§ 3055.20 First-Class Mail.

(a) For each of the Single-Piece Letters/Postcards, Presorted Letters/Postcards, and Flats products within the First-Class Mail class, report the on-time service performance (as a percentage rounded to one decimal place), disaggregated by mail subject to the overnight, 2-day, 3-day, 4-day, and 5-day service standards, as well as in the aggregate for the 3-to-5-day service standards.

(b) For each of the Outbound Single-Piece First-Class Mail International and Inbound Letter Post products within the First-Class Mail class, report the on-time service performance (as a percentage rounded to one decimal place), disaggregated by mail subject to the 2-day, 3-day, 4-day, and 5-day service standards, as well as in the aggregate for the 3-to-5-day service standards and in the aggregate for all service standards combined.

(c) For each product that does not meet its service goal during the reporting period, report the point impact data for the top ten root causes of on-time service performance failures, at the Postal Administrative Area and National levels, during the previous fiscal year. “Point impact data” means the number of percentage points by which on-time performance decreased due to a specific root cause of failure. Identification and a description of all potential root causes of failure assigned during the previous fiscal year and any changes to the Postal Service's methodology for calculating point impact data shall be included.

6. Revise § 3055.21 to read as follows:

§ 3055.21 USPS Marketing Mail.

(a) For each product within the USPS Marketing Mail class, report the on-time service performance (as a percentage rounded to one decimal place).

(b) For each product within the USPS Marketing Mail class that does not meet its service goal during the reporting period, report the point impact data for the top ten root causes of on-time service performance failures, at the National level, during the previous fiscal year. “Point impact data” means the number of percentage points by which on-time performance decreased due to a specific root cause of failure. Identification and a description of all potential root causes of failure assigned during the previous fiscal year and any changes to the Postal Service's methodology for calculating point impact data shall be included. This requirement shall not apply to USPS Marketing Mail Every Door Direct Mail or USPS Marketing Mail Destination Delivery Unit Entry Saturation Flats.

7. Revise § 3055.22 to read as follows:

§ 3055.22 Periodicals.

(a) For each product within the Periodicals class, report the on-time service performance (as a percentage rounded to one decimal place).

(b) For each product within the Periodicals class that does not meet its service goal during the reporting period, report the point impact data for the top ten root causes of on-time service performance failures, at the National level, during the previous fiscal year. “Point impact data” means the number of percentage points by which on-time performance decreased due to a specific root cause of failure. Identification and a description of all potential root causes of failure assigned during the previous fiscal year and any changes to the Postal Service's methodology for calculating point impact data shall be included.

8. Revise § 3055.23 to read as follows:

§ 3055.23 Package Services.

(a) For each product within the Package Services class, report the on-time service performance (as a percentage rounded to one decimal place).

(b) For each product within the Package Services class that does not meet its service goal during the reporting period, report the point impact data for the top ten root causes of on-time service performance failures, at the National level, during the previous fiscal year. “Point impact data” means the number of percentage points by which on-time performance decreased due to a specific root cause of failure. Identification and a description of all potential root causes of failure assigned during the previous fiscal year and any changes to the Postal Service's methodology for calculating point impact data shall be included.

9. Revise § 3055.25 to read as follows:

§ 3055.25 Nonpostal Products.

(a) For each product that is a nonpostal service authorized pursuant to 39 U.S.C. chapter 37, the Postal Service shall report the measure of the quality of service.

(b) If practicable, quantitative measurement (such as on-time service performance) along with identification of the underling metric(s) shall be provided. If quantitative measurement is not practicable, the Postal Service shall so state, explain why it is not practicable, and provide qualitative analysis.

(c) For the Postal Service's program to provide property and nonpostal service to other Government agencies under 39 U.S.C. 3704, the Postal Service shall report the quality of service for the program as a whole.

(d) The effective date of this section is October 1, 2023.

Subpart B—Periodic Reporting of Service Performance Achievements

10. Revise § 3055.30 to read as follows:

§ 3055.30 Periodic reporting of service performance achievements.

For each Market Dominant product specified in the Mail Classification Schedule in part 3040, appendix A to subpart A of part 3040 of this chapter, the Postal Service shall file a Quarterly Report with the Commission addressing service performance achievements for the preceding fiscal quarter (within 40 days of the close of each fiscal quarter, except where otherwise specified by the Commission), except where otherwise specified by the Commission.

11. Amend § 3055.31 by revising paragraphs (a) and (d) and by adding paragraphs (f) through (i) to read as follows:

§ 3055.31 Contents of the Quarterly Report of service performance achievements.

(a) The items in paragraphs (b) through (h) of this section shall be included in the quarterly report of service performance achievements.

* * * * *

(d) Documentation showing how data reported at a given level of aggregation were derived from data reported at greater levels of disaggregation. Such documentation shall be in electronic format with all data links preserved. It shall show all formulas used, including volumes and other weighting factors. Any graphical representation of data provided shall also be accompanied by the underlying data presented in spreadsheet form.

* * * * *

(f) For each Market Dominant product, the average time in which the product was delivered, measured by actual delivery days, during the previous fiscal quarter, provided at the District, Postal Administrative Area, and National levels. “Actual delivery days” shall include all days in which Market Dominant products are eligible for delivery, excluding Sundays and holidays. The report shall include the following information on dispersion around the average:

(1) The percent of mailpieces delivered within +1 day of the applicable service standard;

(2) The percent of mailpieces delivered within +2 days of the applicable service standard; and

(3) The percent of mailpieces delivered within +3 days of the applicable service standard.

(g) A description of each Site-Specific Operating Plan, including operation completion time performance (as a percentage rounded to one decimal place) for each Site-Specific Operating Plan measurement category during the previous fiscal quarter. Such information shall be at the National level and disaggregated by Division and Region.

(h) A description of the total mail volumes measured and excluded from measurement. Such description shall include:

(1) For each class of Market Dominant products (except Special Services), a report of the reasons that mailpieces were excluded during the previous fiscal quarter. The report shall include:

(i) The exclusion reason;

(ii) The exclusion reason description;

(iii) The number of mailpieces excluded from measurement, which is the sum of all mailpieces excluded from measurement for the individual exclusion reason; and

(iv) The exclusion reason as a percent of total mailpieces excluded from measurement, which is the number of mailpieces excluded from measurement (i.e., provided in paragraph (h)(1)(iii) of this section) divided by the sum of all mailpieces excluded from measurement across all exclusion reason categories (i.e., the sum of all values provided in paragraph (h)(1)(iii) of this section).

(v) The report shall include information for each quarter in the applicable fiscal year.

(2) The report described in paragraph (h)(1) of this section shall follow the format as shown below:

Table 1 to Paragraph (h)(2)—Exclusion Reasons Report for Fiscal Quarter
Exclusion reason | Exclusion description | Number of mailpieces excluded from measurement: Q1 | Number of mailpieces excluded from measurement: Q2 | Number of mailpieces excluded from measurement: Q3 | Number of mailpieces excluded from measurement: Q4 | Exclusion reason as a percent of total exclusions: Q1 | Exclusion reason as a percent of total exclusions: Q2 | Exclusion reason as a percent of total exclusions: Q3 | Exclusion reason as a percent of total exclusions: Q4

(3) For each class of Market Dominant products and for each Market Dominant product (except Special Services), a description of the mail volumes measured and unmeasured during the previous fiscal quarter. The description shall explain in detail any notations regarding the Postal Service's inability to collect any data. Corresponding data shall also be provided for the same period last year (SPLY). Each report is due within 60 days of the close of each fiscal quarter.

(4) The report described in paragraph (h)(3) of this section shall follow the format as shown below:

Table 2 to Paragraph (h)(4)—Total Mail Measured/Unmeasured Volumes Report for Fiscal Quarter
Class/product | ‸‸: Prior FQ | ‸‸: SPLY | ‸‸: Prior FQ | ‸‸: SPLY | ‸‸: Prior FQ | ‸‸: SPLY
Total Number of Pieces (RPW-ODIS)
Total Number of Pieces in Measurements
Total Number of Pieces Eligible for Full-Service IMb
Total Number of Full-Service IMb Pieces Included in Measurement
Total Number of Full-Service IMb Pieces Excluded from Measurement
Total Number of Pieces Not in Measurement
% of Pieces in Measurement Compared to Total Pieces
% of Pieces Not in Measurement Compared to Total Pieces
% of Full-Service IMb Pieces in Measurement Compared to Total IMb Full-Service Pieces
% of Full-Service IMb Pieces Not in Measurement Compared to Total IMb Full-Service Pieces

(i) A report of quarterly third-party audit results of its internal service performance measurement system for Market Dominant products. This report shall include a description of the audit measures used and the audit results specific to inbound and outbound single-piece First-Class Mail International and the Green Card option of the Return Receipt service. For any measure deemed by the auditor to be not achieved or only partially achieved, the Postal Service shall include in its report an explanation of its plan to achieve said measure in the future. Each report is due within 60 days of the close of each fiscal quarter.

12. Revise § 3055.45 to read as follows:

§ 3055.45 First-Class Mail.

(a) Single-Piece Letters/Postcards, Presorted Letters/Postcards, and Flats. For each of the Single-Piece Letters/Postcards, Presorted Letters/Postcards, and Flats products within the First-Class Mail class, report the:

(1) On-time service performance (as a percentage rounded to one decimal place), disaggregated by mail subject to the overnight, 2-day, 3-day, 4-day, and 5-day service standards, as well as in the aggregate for the 3-to-5-day service standards, provided at the District, Postal Administrative Area, and National levels; and

(2) Service variance (as a percentage rounded to one decimal place) for mail delivered within +1 day, +2 days, and +3 days of its applicable service standard, disaggregated by mail subject to the overnight, 2-day, 3-day, 4-day, and 5-day service standards, as well as in the aggregate for the 3-to-5-day service standards, provided at the District, Postal Administrative Area, and National levels.

(b) Outbound Single-Piece First-Class Mail International and Inbound Letter Post. For each of the Outbound Single-Piece First-Class Mail International and Inbound Letter Post products within the First-Class Mail class, report the:

(1) On-time service performance (as a percentage rounded to one decimal place), disaggregated by mail subject to the 2-day, 3-day, 4-day, and 5-day service standards, as well as in the aggregate for the 3-to-5-day service standards and in the aggregate for all service standards combined, provided at the Postal Administrative Area and National levels; and

(2) Service variance (as a percentage rounded to one decimal place) for mail delivered within +1 day, +2 days, and +3 days of its applicable service standard, disaggregated by mail subject to the overnight, 2-day, 3-day, 4-day, and 5-day service standards, as well as in the aggregate for the 3-to-5-day service standards and in the aggregate for all service standards combined, provided at the Postal Administrative Area and National levels.

13. Revise § 3055.50 to read as follows:

§ 3055.50 USPS Marketing Mail.

(a) For each product within the USPS Marketing Mail class, report the on-time service performance (as a percentage rounded to one decimal place), disaggregated by the Destination Entry (2-day), Destination Entry (3-day through 4-day), Destination Entry (5-day through 10-day), End-to-End (3-day through 5-day), End-to-End (6-day through 10-day), and End-to-End (11-day through 22-day) entry mail/service standards, provided at the District, Postal Administrative Area, and National levels.

(b) For each product within the USPS Marketing Mail class, report the service variance (as a percentage rounded to one decimal place) for mail delivered within +1 day, +2 days, and +3 days of its applicable service standard, disaggregated by the Destination Entry (2-day), Destination Entry (3-day through 4-day), Destination Entry (5-day through 10-day), End-to-End (3-day through 5-day), End-to-End (6-day through 10-day), and End-to-End (11-day through 22-day) entry mail/service standards, provided at the District, Postal Administrative Area, and National levels.

14. Amend § 3055.55 by revising paragraph (a) introductory text to read as follows:

§ 3055.55 Periodicals.

(a) In-County Periodicals. For the In-County Periodicals product within the Periodicals class, report the:

* * * * *

15. Revise § 3055.60 to read as follows:

§ 3055.60 Package Services.

(a) For each product within the Package Services class, report the-on-time service performance (as a percentage rounded to one decimal place), disaggregated by the Destination Entry and End-to-End entry mail, provided at the District, Postal Administrative Area, and National levels.

(b) For each product within the Package Services class, report the service variance (as a percentage rounded to one decimal place) for mail delivered within +1 day, +2 days, and +3 days of its applicable service standard, disaggregated by the Destination Entry and End-to-End entry mail, provided at the District, Postal Administrative Area, and National levels.

§ 3055.65 [Amended]

16. Amend § 3055.65 by removing paragraph (b)(1) and redesignating paragraphs (b)(2) through (5) as paragraphs (b)(1) through (4).

17. Add subpart D to read as follows:

Subpart D—Public Performance Dashboard

Sec.
3055.100 Definitions applicable to this subpart.
3055.101 Public Performance Dashboard.
3055.102 Contents of the Public Performance Dashboard.
3055.103 Format for data provided in the Public Performance Dashboard.

§ 3055.100 Definitions applicable to this subpart.

(a) Actual delivery days refers to all days in which Market Dominant products are eligible for delivery, excluding Sundays and holidays.

(b) Election mail refers to items such as ballots, voter registration cards, and absentee applications that an authorized election official creates for voters.

(c) Nonprofit mail refers to USPS Marketing Mail mailpieces that qualify for reduced rates pursuant to 39 U.S.C. 3626(a)(6) and the regulations promulgated thereunder and Periodicals mailpieces that qualify for reduced rates pursuant to 39 U.S.C. 3626(a)(4) and the regulations promulgated thereunder.

(d) Political mail refers to any mailpiece sent for political campaign purposes by a registered candidate, a campaign committee, or a committee of a political party to promote candidates, referendums, or campaigns.

§ 3055.101 Public Performance Dashboard.

The Postal Service shall develop and maintain a publicly available website with an interactive web-tool that provides performance information for Market Dominant products. This website shall be updated on a weekly basis, no later than one month from the date of data collection. The website shall include, at a minimum, the reporting requirements specified in § 3055.102 and adhere to the formatting requirements specified in § 3055.103.

§ 3055.102 Contents of the Public Performance Dashboard.

(a) The items in paragraphs (b) through (p) of this section shall be included in the Public Performance Dashboard.

(b) Within each class of Market Dominant products, for each Market Dominant product and each service standard applicable to each Market Dominant product:

(1) The on-time service performance (as a percentage rounded to one decimal place) for the Nation;

(2) The on-time service performance (as a percentage rounded to one decimal place) for each Postal Administrative Area; and

(3) The on-time service performance (as a percentage rounded to one decimal place) for each District.

(c) Within each class of Market Dominant products, for each Market Dominant product and each applicable service standard:

(1) The average time in which the product was delivered, measured by actual delivery days, for the Nation;

(2) The average time in which the product was delivered, measured by actual delivery days, for each Postal Administrative Area; and

(3) The average time in which the product was delivered, measured by actual delivery days, for each District.

(d) Within each class of Market Dominant products, for each Market Dominant product and each applicable service standard:

(1) the on-time service performance (as a percentage rounded to one decimal place) for any given time period that can be selected by a Dashboard user within the previous two fiscal years (but no earlier than FY 2021 for National data and FY 2022 for Area- and District data); and

(2) the average time in which the product was delivered, measured by actual delivery days, for any given time period that can selected by the Dashboard user within the previous two fiscal years (but no earlier than FY 2021 for National data and FY 2022 for Area- and District data).

(e) Within each class of Market Dominant products, for each Market Dominant product and each applicable service standard:

(1) The on-time service performance (as a percentage rounded to one decimal place) for any given pair of origin/destination Districts that can be selected by a Dashboard user; and

(2) The average time in which the product was delivered, measured by actual delivery days, for any given pair of origin/destination Districts to be selected by the Dashboard user.

(f) For identifiable Political mail:

(1) The processing scores for service performance (as a percentage rounded to one decimal place) for the Nation;

(2) The processing scores for service performance (as a percentage rounded to one decimal place) for each Postal Administrative Area; and

(3) The processing scores for service performance (as a percentage rounded to one decimal place) for each District.

(g) For identifiable Election mail:

(1) The processing scores for service performance (as a percentage rounded to one decimal place) for the Nation;

(2) The processing scores for service performance (as a percentage rounded to one decimal place) for each Postal Administrative Area; and

(3) The processing scores for service performance (as a percentage rounded to one decimal place) for each District.

(h) For the First-Class Mail that the Postal Service identifies as Single-Piece Reply Mail:

(1) The on-time service performance (as a percentage rounded to one decimal place) for the Nation;

(2) The on-time service performance (as a percentage rounded to one decimal place) for each Postal Administrative Area;

(3) The on-time service performance (as a percentage rounded to one decimal place) for each District;

(4) The average time in which the mailpieces were delivered, measured by actual delivery days, for the Nation;

(5) The average time in which the mailpieces were delivered, measured by actual delivery days, for each Postal Administrative Area; and

(6) The average time in which the mailpieces were delivered, measured by actual delivery days, for each District.

(i) For identifiable Nonprofit mail (within Periodicals and USPS Marketing Mail classes of mail):

(1) The processing scores for service performance (as a percentage rounded to one decimal place) for the Nation;

(2) The processing scores for service performance (as a percentage rounded to one decimal place) for each Postal Administrative Area; and

(3) The processing scores for service performance (as a percentage rounded to one decimal place) for each District.

(j) For identifiable Nonprofit mail (within the Periodicals and USPS Marketing Mail classes of mail) that does not also qualify as Political Mail or Election Mail:

(1) The processing scores for service performance (as a percentage rounded to one decimal place) for the Nation;

(2) The processing scores for service performance (as a percentage rounded to one decimal place) for each Postal Administrative Area; and

(3) The processing scores for service performance (as a percentage rounded to one decimal place) for each District

(k) The point impact data for the top ten root causes of on-time service performance failures, at the Postal Administrative Area and National levels. “Point impact data” means the number of percentage points by which on-time performance decreased due to a specific root cause of failure. Identification and a description of all potential root causes of failure assigned during the previous fiscal year and any changes to the Postal Service's methodology for calculating point impact data shall be included.

(l) For each Market Dominant product and applicable service standard, the on-time service performance target currently in effect, as well as the on-time service performance target for the previous fiscal year.

(m) A summary of the methodology used to group 5-Digit ZIP Codes into the Postal Administrative Areas and Districts with links to more detailed explanations if applicable.

(n) An application that would allow a Dashboard user to initiate a query in order to access, for each Market Dominant product and applicable service standard, the on-time service performance (as a percentage rounded to one decimal place) and average time in which a mailpiece is delivered for a District by inputting the user's street address, 5-Digit ZIP Code, or post office box.

(o) Supporting documentation underlying the results presented in the Dashboard, including:

(1) Data sources for each service performance parameter presented in the Dashboard, as well as links to each such source;

(2) Explanations of how the information in the data sources are transformed and summarized for presentation on the Dashboard; and

(3) Exceptions and detailed explanations for each exception, such as missing service performance data for a specific product or geographic division.

(p) The items in paragraphs (b) through (o) shall be included within the following periods of time.

(1) Within 60 days after the effective date of this section, the Dashboard shall include the required data for each Market Dominant product;

(2) Within 150 days after the effective date of this section, the Dashboard shall include the required data for each Market Dominant class;

(3) Within 210 days after the effective date of this section, the Dashboard shall include the required data for each service standard, for identifiable Nonprofit Mail, and for the First-Class Mail that the Postal Service identifies as Single-Piece Reply Mail; and

(4) Within 300 days after the effective date of this section, the Dashboard shall include all other data required by this section.

§ 3055.103 Format for data provided in the Public Performance Dashboard.

(a) The results of a user-initiated query and the data underlying the query results should be exportable via a machine-readable format. Such data should be made accessible to any person or entity utilizing tools and methods designed to facilitate access to and extraction of data in bulk, such as an Application Programming Interface (API).

(b) When there is a negative deviation from service performance standards, the Dashboard should clearly indicate such deviation from expected performance and present the service performance from the prior week and the same period last year.

By the Commission.
Erica A. Barker,
Secretary.

[FR Doc. 2023-03229 Filed 2-15-23; 8:45 am]

BILLING CODE 7710-FW-P